DEPARTMENT OF THE INTERIOR

Fish and Wildlife Service

[Docket No. FWS-R4-ES-2018-0079; FXES11140400000-178-FF04EF2000]

Receipt of Incidental Take Permit Application; Eastern Collier Property Owners, LLC, Multi-Species Habitat Conservation Plan, Collier County, Florida; Additional Applicant

AGENCY: Fish and Wildlife Service, Interior.

ACTION: Notice of availability; request for comments.

SUMMARY: We, the U.S. Fish and Wildlife Service (Service), announce receipt of an application from Gargiulo, Inc. (applicant) for an incidental take permit (ITP) under the Endangered Species Act. The applicant requests to join 11 other landowners, collectively known as “Eastern Collier Property Owners, LLC,” in requesting individual 50-year ITPs authorizing take of the Florida panther and 18 other Federal or State-listed species. The take would be incidental to residential and commercial development, earth mining, and low-intensity rural land activities on properties in Collier County, Florida (project). We are accepting comments on Gargiulo, Inc.'s ITP application.

DATES: We will accept comments received or postmarked on or before February 21, 2020. Comments submitted electronically at http://www.regulations.gov must be received by 11:59 p.m. Eastern time on the closing date. Any comments we receive after the closing date may not be considered in the final decision on these actions.

ADDRESSES:

Obtain Documents: You may obtain copies of documents related to this application by the following methods:

Internet: http://www.regulations.gov (search for Docket No. FWS-R4-ES-2018-0079).

Field Office: https://www.fws.gov/verobeach/.

Submit Comments: You may submit written comments by the following methods:

Internet: http://www.regulations.gov. Follow the instructions for submitting comments on Docket No. FWS-R4-ES-2018-0079.

Hard Copy: Via U.S. mail or hand-delivery to Public Comments Processing, Attn: FWS-R4-ES-2018-0079, U.S. Fish and Wildlife Service Headquarters, JAO/1N, 5275 Leesburg Pike, Falls Church, VA 22041-3803.

Review Public Comments: Submitted comments may be viewed at http://www.regulations.gov in Docket No. FWS-R4-ES-2018-0079.

FOR FURTHER INFORMATION CONTACT: David Dell, Regional HCP Coordinator, by mail at Attn: ECPO, U.S. Fish and Wildlife Service, 1875 Century Boulevard, Atlanta, GA 30345, or by telephone at 404-679-7313; or Constance Cassler, Supervisory Fish and Wildlife Biologist, by mail at the South Florida Ecological Services Office, Attn: ECPO, U.S. Fish and Wildlife Service, 1339 20th Street, Vero Beach, FL 32960; or by telephone at 772-469-4356.

SUPPLEMENTARY INFORMATION: We, the U.S. Fish and Wildlife Service, have received an application for an incidental take permit (ITP) under the Endangered Species Act of 1973, as amended (ESA; 16 U.S.C. 1531 et seq.). The applicant seeks to join 11 other landowners, collectively known as “Eastern Collier Property Owners, LLC” (ECPO), in obtaining individual 50-year ITPs. ECPO collaborated on a joint HCP to address long-term land-use planning and conservation issues related to the Florida panther in the east Collier County area (see also http://www.floridapantherprotection.com). Table 1 lists the species covered by the HCP. The Service announced the availability of 11 landowners' ITP applications in the Federal Register on October 19, 2018 (83 FR 53078). The applications included a jointly prepared habitat conservation plan (HCP). We also sought comment on our draft environmental impact statement (EIS). The comment period closed on December 3, 2018. All 12 applicants are listed below in Table 2.

Applicant

Gargiulo, Inc. purchased approximately 5,000 acres from another ECPO member, Collier Enterprises Management, Inc. The purchased tracts are already included in the HCP area, and there have been no changes to the activities covered by the HCP since publication of the October 19, 2018, notice.

Table 1—HCP-Covered Wildlife Species and Their Protected Statuses
Status | Common name | Scientific name
Listed as endangered under the ESA | Florida panther | Puma concolor coryi.
| Florida bonneted bat | Eumops floridanus.
| Red-cockaded woodpecker | Picoides borealis.
| Everglade snail kite | Rostrhamus sociabilis plumbeus.
Listed as threatened under the ESA | Wood stork | Mycteria americana.
| Crested caracara | Polyborus plancus audubonii.
| Florida scrub jay | Aphelocoma coerulescens.
| Eastern indigo snake | Drymarchon corais couperi.
Candidate species or species under review for Federal listing | Gopher tortoise | Gopherus polyphemus.
| Eastern diamondback rattlesnake | Crotalus adamanteus.
| Gopher frog | Lithobates capito.
State-listed species | Big Cypress fox squirrel | Sciurus niger avicennia.
| Everglades mink | Neovison vison evergladensis.
| Burrowing owl | Athene cunicularia.
| Florida sandhill crane | Antigone canadensis pratensis.
| Little blue heron | Egretta caerulea.
| Roseate spoonbill | Platalea ajaja.
| Southeastern American kestrel | Falco sparverius paulus.
| Tricolored heron | Egretta tricolor.

Table 2—Members of Eastern Collier Property Owners, LLC, and Their Incidental Take Permit Application Numbers
Applicants | Permit application Nos.
Alico Land Development, Inc | TE05647D-0
Barron Collier Investment, Ltd | TE04440D-0
Collier Enterprises Management, Inc | TE04443D-0
Consolidated Citrus Limited Partnership | TE04471D-0
English Brothers Partnership | TE04152D-0
Gargiulo, Inc | TE54442D-0
Half Circle L Ranch, LLP | TE05238D-0
Heller Bros. Packing Corp | TE05668D-0
JB Ranch I, LLC | TE04473D-0
Owl Hammock Immokalee, LLC | TE06114D-0
Pacific Land, Ltd | TE05665D-0
Sunniland Family Limited Partnership | TE04472D-0

Background

Section 9 of the ESA and its implementing regulations prohibit “take” of federally listed “threatened” or “endangered” fish and wildlife species. However, section 10(a) of the ESA provides exceptions to the prohibition by allowing the Service to issue permits authorizing take of listed species where such take is incidental to, and not the purpose of, otherwise lawful activities, provided the applicant meets certain statutory requirements.

The ECPO HCP proposes a programmatic approach and framework for engaging in incidental take of the covered species while providing for the permanent protection of portions of the HCP area via conservation easements and funding for conservation activities in addition to those provided in the HCP. ECPO collectively owns a total of 151,779 acres within the approximately 174,000-acre HCP area. Up to 45,000 acres of the area could be developed or used for other activities under the HCP. Impacts to covered species from the project would be mitigated through habitat management measures, the placement of conservation easements on up to 107,000 acres of the HCP area, and contributions to a conservation endowment, the Marinelli Fund, to implement conservation measures for the covered species throughout and beyond the HCP area.

Draft Environmental Impact Statement

We published a notice of intent to prepare an EIS for ECPO's HCP in the Federal Register on March 25, 2016 (81 FR 16200). A public scoping meeting was held in Naples, Florida, on April 12, 2016, and an online public participation webcast was conducted on April 19, 2016. We incorporated issues identified during the scoping meetings into the draft EIS. A summary of the comments received during the scoping period is provided in the scoping report appended to the draft EIS. We published a notice of availability of the draft EIS on October 19, 2018.

The draft EIS assesses the likely environmental impacts associated with the implementation of the activities proposed in the HCP compared to the likely consequences of not issuing the requested ITPs, i.e., uncoordinated project-by-project and lot-by-lot planning and mitigation. The Department of the Army, through its bureau the U.S. Army Corps of Engineers, Jacksonville District, is a cooperating agency in the development of the draft EIS.

Public Comments

Comments previously submitted on the HCP, draft EIS, or 11 ITP applications need not be resubmitted. We have incorporated them into the public record and will fully consider them in our deliberations on whether to issue the requested ITPs.

If you wish to comment on Gargiulo, Inc.'s ITP application, you may submit comments by any one of the methods listed above in ADDRESSES. Before including your address, phone number, email address, or other personal identifying information in your comment, be aware that your entire comment—including your personal identifying information—may be made available to the public at any time. While you may request in your comment that we withhold your personal identifying information, we cannot guarantee that we will be able to do so.

Next Steps

We will evaluate the HCP, draft EIS, and public comments to determine whether the ITP application meets the permit issuance requirements of section 10(a) of the ESA. We will also conduct an intra-Service consultation pursuant to section 7 of the ESA. If the requirements for permit issuance are met, we will issue an ITP to the applicant.

Authority

We provide this notice under section 10 of the ESA (16 U.S.C. 1531 et seq.), ESA regulations in Title 50 of the Code of Federal Regulations, and the National Environmental Policy Act (NEPA; 42 U.S.C. 4321 et seq.) and NEPA regulation 40 CFR 1506.6.

Mike Oetker,
Deputy Regional Director.

[FR Doc. 2020-01008 Filed 1-22-20; 8:45 am]

BILLING CODE 4333-15-P